DEPARTMENT OF HEALTH AND HUMAN SERVICES

Food and Drug Administration

[Docket No. FDA-2013-N-0523]

Agency Information Collection Activities: Proposed Collection; Comment Request; Applications for Food and Drug Administration Approval To Market a New Drug

Correction

In notice document 2017-10818 appearing on pages 24351 through 24356 in the issue of Friday, May 26, make the following correction:

On page 24351, in the third column, under the DATES heading, in the third line “June 26, 2017” should read “July 25, 2017”.

[FR Doc. C1-2017-10818 Filed 6-29-17; 8:45 am]

BILLING CODE 1505-01-D